DEPARTMENT OF THE INTERIOR

Bureau of Land Management

[LLCAD06000 L51010000.ER0000 LVRWB17B5480 17X]

Notice of Availability of the Final Supplemental Environmental Impact Statement and Environmental Impact Report and Proposed Land Use Plan Amendment to the California Desert Conservation Area Plan for the Palen Solar Project, California

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Final Supplemental Environmental Impact Statement (EIS) and Proposed Land Use Plan Amendment to the California Desert Conservation Area (CDCA) Plan for the Palen Solar Project, and by this notice is announcing its availability. This document is also an Environmental Impact Report (EIR) prepared by Riverside County under the California Environmental Quality Act (CEQA).

DATES: BLM planning regulations state that any person who meets the conditions as described in the regulations may protest the BLM's Proposed Land Use Plan Amendment and Final Supplemental EIS. A person who meets the conditions and files a protest must file the protest within 30 days of the date that the Environmental Protection Agency publishes its Notice of Availability in the Federal Register.

ADDRESSES: Copies of the Final Supplemental EIS and Proposed Land Use Plan Amendment have been sent to affected Federal, State, local, and tribal government agencies and to other stakeholders. Copies of the Final Supplemental EIS and Proposed Land Use Plan Amendment are available for public inspection at the BLM-Palm Springs South Coast Field Office at 1201 Bird Center Dr., Palm Springs, CA 92262 and at the BLM-California Desert District Office, 22835 Calle San Juan de Los Lagos, Moreno Valley, CA 92553. Interested persons may also review the Final Supplemental EIS and Proposed Land Use Plan Amendment on the internet at https://eplanning.blm.gov/epl-front-office/eplanning/planAndProjectSite.do?methodName=renderDefaultPlanOrProjectSite&projectId=68122. All protests must be in writing and mailed to one of the following addresses:

• Regular Mail: BLM Director (210), Attention: Protest Coordinator, P.O. Box 71383, Washington, DC 20024-1383.

• Overnight Delivery: BLM Director (210), Attention: Protest Coordinator, 20 M Street SE, Room 2134LM, Washington, DC 20003.

FOR FURTHER INFORMATION CONTACT: Mark DeMaio, BLM Project Manager, telephone (760) 833-7124; address Bureau of Land Management, Palm Springs-South Coast Field Office, 1201 Bird Center Drive, Palm Springs, CA 92262; email mdemaio@blm.gov.

Persons who use a telecommunications device for the deaf (TDD) may call the Federal Relay Service (FRS) at (800) 877-8339 to contact the above individual during normal business hours. The FRS is available 24 hours a day, 7 days a week, to leave a message or question with the above individual. You will receive a reply during normal business hours.

SUPPLEMENTARY INFORMATION: EDF Renewable Energy has applied for a Right-of-Way (ROW) from the BLM to construct, operate, maintain, and decommission a 500 megawatt (MW) solar photovoltaic facility near Desert Center, Riverside County, California. The ROW application area comprises about 4,200 acres, with a proposed project footprint of about 3,400 acres. The proposed project also includes construction of a 6.7-mile single circuit 230 kilovolt generation interconnection (gen-tie) transmission line connecting the project to the Southern California Edison (SCE) Red Bluff Substation. The BLM is also considering an amendment to the CDCA Plan that would be necessary to authorize the project. This is a joint EIS/EIR for compliance with NEPA and CEQA. Riverside County is the lead agency under CEQA.

This Project application was originally submitted in 2007 as the Palen Solar Power Project (PSPP) by Palen Solar I, LLC (PSI), a wholly owned subsidiary of Solar Millennium. The PSPP was proposed as a solar trough project, and was the subject of an EIS under NEPA. The BLM, pursuant to its obligations under FLPMA and NEPA, published a Draft EIS, followed by a Proposed CDCA Plan Amendment and Final EIS on May 13, 2011 (76 FR 28064). Before the BLM issued a Record of Decision (ROD), PSI informed the BLM that it would not construct the Project due to bankruptcy. As a result, the BLM did not issue a ROD, did not amend the CDCA Plan, and did not issue a ROW grant for the PSPP. On June 21, 2012, the bankruptcy court approved the transfer of the application from PSI to Palen Solar III, LLC (PSIII). BrightSource Energy Inc. (BSE) then acquired all rights to PSIII at auction. PSIII submitted a revised ROW application to the BLM for the Palen Solar Electricity Generating System Project (PSEGS), a 500 MW concentrating solar power tower technology facility and single-circuit 230 kV gen-tie line. On July 27, 2013, the BLM issued a Draft Supplemental EIS and Plan Amendment to evaluate the potential additional environmental impacts caused by PSEGS. As part of the state permitting process, the California Energy Commission evaluated the PSEGS under CEQA, and issued Preliminary and Final Staff Assessments for the amended project in June and November of 2013, respectively. The BLM did not issue a Final Supplemental EIS for the PSEGS Project because BSE and its partner, Abengoa Solar Inc., abandoned the State authorization proceedings at the California Energy Commission. In December 2015, EDF Renewable Energy acquired the PSEGS application. EDF Renewable Energy has submitted a revised ROW application for the Proposed Project, which is analyzed in this Final Supplemental EIS/EIR and Proposed Land Use Plan Amendment.

The BLM held public meetings on the revised ROW application in June and August 2016 in Palm Springs, California. On October 27, 2017, the BLM issued the Draft Supplemental EIS/EIR and Draft Land Use Plan Amendment, which analyzed the impacts of the Proposed Action and two action alternatives, in addition to a No Action Alternative. Alternative 1, Reduced Footprint, would be a 500 MW Photovoltaic (PV) array on about 3,100 acres. It avoids the central and largest desert wash and incorporates a more efficient use of the land for the solar array. Alternative 2, Avoidance Alternative, would be a solar PV project on about 1,620 acres (160 to 230 MW). Like the Proposed Action, under each of these alternatives, the BLM would amend the CDCA Plan to allow the project. Under the No-Action Alternative, the BLM would deny the ROW application, and would not amend the CDCA Plan to allow the project.

The Draft Supplemental EIS/EIR and Draft Land Use Plan Amendment included analysis of the revised ROW application as it related to the following issues: (1) Updated description of the Proposed Project, based on the revised ROW application; (2) Impacts to cultural resources and tribal concerns; (3) Impacts to the Sand Transport Corridor and Mojave fringe-toed lizard habitat and washes; (4) Impacts to Joshua Tree National Park; (5) Impacts to avian species; (6) Impacts to visual resources; and (7) Relationship between the proposed project and the California Desert Conservation Area (CDCA) Plan, including the amendment to the CDCA Plan by the 2016 Desert Renewable Energy Conservation Plan.

A Draft Supplemental EIS/EIR was released in October 2017, which included a formal 45-day public comment period. The BLM held a public meeting on November 14, 2017, in Palm Desert, CA. Fourteen individuals attended that meeting. The BLM received 40 comment letters during the comment period.

Comments on the Draft Supplemental EIS/EIR and Draft Land Use Plan Amendment received from the public and internal agency review were considered and incorporated as appropriate into the proposed plan amendment. Public comments resulted in the addition of clarifying text, but did not significantly change proposed land use plan decisions. A response to substantive comments is included in the Final Supplemental EIS/EIR and Proposed Land Use Plan Amendment. The BLM has selected Alternative 1, the Reduced Footprint, as the Agency Proposed Alternative in the Final Supplemental EIS/EIR and Proposed Land Use Plan Amendment.

Instructions for filing a protest with the Director of the BLM regarding the Proposed Land Use Plan Amendment/Final Supplemental EIS may be found in the “Dear Reader” Letter of the Final Supplemental EIS/EIR and Proposed Land Use Plan Amendment and at 43 CFR 1610.5-2. All protests must be in writing and mailed to the appropriate address, as set forth in the ADDRESSES section above. Emailed protests will not be accepted as valid protests unless the protesting party also provides the original letter by either regular mail or overnight delivery postmarked by the close of the protest period. Under these conditions, the BLM will consider the email as an advanced copy, and it will receive full consideration. If you wish to provide the BLM with such advance notification, please direct emails to: protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Danielle Chi,
Deputy State Director.

[FR Doc. 2018-10574 Filed 5-17-18; 8:45 am]

BILLING CODE 4310-40-P